DEPARTMENT OF VETERANS AFFAIRS

Privacy Act of 1974: Computer Matching Program

AGENCY: Department of Veterans Affairs.

ACTION: Notice of Computer Match Program.

SUMMARY: Pursuant to 5 U.S.C. section 552a, the Privacy Act of 1974, as amended, and the Office of Management and Budget (OMB) Guidelines on the Conduct of Matching Programs, notice is hereby given that the Department of Veterans Affairs (VA) intends to conduct a computer matching program with the Internal Revenue Service (IRS). Data from the proposed match will be used to verify the earned income of nonservice-connected veterans, and those veterans who are zero percent service-connected (noncompensable), whose eligibility for VA medical care is based on their inability to defray the cost of medical care. These veterans supply household income information that includes their spouses and dependents at the time of application for VA health care benefits.

DATES: Effective Date: This match will start no sooner than 30 days after publication in the Federal Register, unless comments dictate otherwise. IRS published a notice in the Federal Register on August 15, 2008.

ADDRESSES: Written comments may be submitted by mail or hand-delivery to Director, Regulations Management (02REG), Department of Veterans Affairs, 810 Vermont Ave., NW., Room 1068, Washington, DC 20420; fax to (202) 273-9026; e-mail to VARegulations@mail.va.gov; or, through http://www.Regulations.gov. All comments received will be available for public inspection in the Office of Regulation Policy and Management, Room 1063B, between the hours of 8 a.m. and 4:30 p.m., Monday through Friday (except holidays). Please call (202) 461-4902 for an appointment (this is not a toll-free number).

FOR FURTHER INFORMATION CONTACT: Lynne Harbin, Director, Health Eligibility Center, (404) 282-5300 (this is not a toll-free number).

SUPPLEMENTARY INFORMATION: The Department of Veterans Affairs has statutory authorization under 38 U.S.C. section 5317, 38 U.S.C. section 5106, 26 U.S.C. section 6103(l)(7)(D)(viii) and 5 U.S.C. section 552a to establish matching agreements and request and use income information from other agencies for purposes of verification of income for determining eligibility for benefits. 38 U.S.C. sections 1710(a)(2)(G), 1720(a)(3), and 1710(b) identify those veterans whose basic eligibility for medical care benefits is dependent upon their financial status. Eligibility for nonservice-connected and zero percent noncompensable service-connected veterans is determined based on the veteran's inability to defray the expenses for necessary care as defined in 38 U.S.C. section 1722. This determination can affect their responsibility to participate in the cost of their care through copayments and their assignment to an enrollment priority group.

The goal of this match is to obtain IRS earned income information data needed for the income verification process. The VA records involved in the match are “Income Verification Records—VA (89VA16).” The IRS records are from the Information Return Master File (IRMF) Processing File, Treasury/IRS 22.061. A copy of this notice has been sent to both Houses of Congress and OMB.

This matching agreement expires 18 months after its effective date. This match will not continue past the legislative authorized date to obtain this information.

Gordon H. Mansfield,
Deputy Secretary of Veterans Affairs.

[FR Doc. E8-26246 Filed 11-3-08; 8:45 am]

BILLING CODE 8320-01-P